DEPARTMENT OF TRANSPORTATION

Federal Aviation Administration

Public Notice for Waiver of Aeronautical Land-Use Assurance; Airport Property at Palmer Municipal Airport, Palmer, Alaska

AGENCY: Federal Aviation Administration, Department of Transportation.

ACTION: Notice of intent of waiver with repect to land.

SUMMARY: Notice is hereby given per 49 U.S.C. 47107(h)(1)(A) that the Federal Aviation Administration (FAA) is considering a proposal to change approximately 9.1 acres of airport land from aeronautical use to non-aeronautical use and to authorize the sale of this airport property.

As described in the 2011 approved Airport Layout Plan, the 9.1 acres of airport land are composed of Tract C Lots LL 2 and LL 3, and Tract D Lot LL 1C. Precently these properties are occupied as follows: LL 2 Mat-Su Borough Nutrition Center, LL 3 Baseball Fields, and LL 1C City Water Well.

DATES: Comments must be received on or before November 25, 2015.

ADDRESSES: Send comments on this document to Mike Edelmann, Aviation Planner, Federal Aviation Administration, Alaskan Region Airports Division, 222 W. 7th Avenue, #14, Anchorage, AK 99513-7587. In addition, one copy of any comments submitted to the FAA must be mailed or delivered to: City of Palmer Alaska POC Jeffrey Combs Airport Superintendent (907) 761-1334 JJCOMBS@palmerak.org 231 West Evergreen, Palmer AK 99645.

FOR FURTHER INFORMATION CONTACT: Mr. Michael Edelmann, Federal Aviation Administration, Alaskan Region Airports Division, 222 W. 7th Avenue, #14, Anchorage, AK 99513-7587, telephone 907-271-5026, email mike.edelmann@faa.gov or Jeffrey Combs Airport Superintendent (907) 761-1334, JJCOMBS@palmerak.org, 231 West Evergreen, Palmer AK 99645.

Issued in Anchorage, Alaska, on October 20, 2015.
Byron Huffman,
Division Manager, FAA, Alaskan Region.

[FR Doc. 2015-27185 Filed 10-23-15; 8:45 am]

BILLING CODE 4910-13-P